DEPARTMENT OF HOUSING AND URBAN DEVELOPMENT

[Docket No. FR-5130-N-14]

Privacy Act of 1974; Amendment to Existing Systems of Records, Debt Collection Asset Management System

AGENCY: Office of the Chief Information Officer, HUD.

ACTION: Notice of an amendment to two existing Systems of Records.

SUMMARY: Pursuant to the provisions of the Privacy Act of 1974 (5 U.S.C. 552a), HUD is amending one of Privacy Act record systems, the Debt Collection Asset Management System (DCAMS, HUD/HS 54) notice published in the Federal Register on July 26, 2006 (71 FR 36353), to include a new routine. The routine use will permit the disclosure of data transferred from DCAMS to HUD's Credit Alert Interactive Verification Response System (CAIVRS) that makes federal debtor's delinquency and claim information available to program agencies and approved lenders to verify the creditworthiness of loan applicant's.

DATES: Effective Date: This action shall be effective without further notice on December 13, 2007 unless comments are received which will result in a contrary determination.

Comments Due Date: December 13, 2007.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: The Departmental Privacy Act Officer, 451 Seventh St., SW., Room 4156, Washington, DC 20410, telephone number (202) 619-9057. (This is not a toll-free number.) A telecommunication device for hearing- and speech-impaired individuals (TTY) is available at (800) 877-8339 (Federal Information Relay Service).

SUPPLEMENTARY INFORMATION: Title 5 U.S.C. 552a(e)(4) and (11) provides that the public be afforded a 30-day period in which to comment on the new systems of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Agency Responsibilities for Maintaining Records About Individuals,” July 25, 1994 (59 FR 37914).

Authority: 5 U.S.C. 552a 88 Stat. 1896; 342 U.S.C. 3535(d).

Dated: November 1, 2007.
Mile Milazzo,
Acting Deputy CIO for IT Operations.

HUD/HS-55

System Name:

Debt Collection and Asset Management System (DCAMS), which consists of two sister systems identified as F71 and F71A.

System Location:

Mainframe maintained in HUD Headquarters, 451 Seventh Street, SW., Suite P-7110, Washington, DC 20410. Records management performed by HUD's Financial Operations Center, 52 Corporate Circle, Albany, New York 12203.

Categories of Individuals Covered by the System:

Categories of individuals who have debts resulting from default on HUD/FHA-insured Title I loans and from other HUD/FHA loan programs.

Categories of Records in the System:

The system contains data fields pertaining to defaulted borrowers that include defaulted borrowers' names, addresses, Social Security Numbers, and phone numbers. The system also contains data fields for records relating to payment and other financial account data such as debt balance; loan origination information such as date and amount of loan; date of default; and collection and account statuses. The system also contains narrative remarks (called Case Remarks) that may include notes pertaining to discussions with defaulted borrowers and other parties; information obtained from public and court records, such as assessed property values, lien histories, case information from probate, state, and bankruptcy courts; and employer information for defaulted borrowers.

Authority for Maintenance of the System:

HUD is granted the authority in 24 CFR 17.60 through 17.170 to collect on claims for money or property arising out of the program activities of the Department. HUD's statutory authority for collecting and managing claims is found at 5 U.S.C. 5514, 28 U.S.C. 2672, and 31 U.S.C. 3711, 3716-18, and 3721. The implementing regulations pertaining to HUD's debt collection activities and collection and use of personal data to support those activities are found at 24 CFR 17.60 through 17.170.

Purposes:

The primary purpose of DCAMS is to collect and maintain data needed to support activities related to the collection and servicing of various HUD/FHA debts. Debt collection and servicing activities include sending both automated and manually generated correspondence; making official phone calls; reporting consumer data to the credit bureaus; supporting collection initiatives, such as wage garnishment, offset of federal payments, pursuit of judgments, and foreclosure; and supporting defensive litigation related to foreclosure and actions to quiet title. It contains information on individuals who have debts resulting from default on HUD/FHA insured Title I loans and from other HUD/FHA loan programs.

Routine Uses of Records Maintained in the System, Including Categories of Users and the Purposes of Such Uses:

In addition to those disclosures generally permitted under subsection (b) of the Privacy Act of 1974, 5 U.S.C. 522a(b), records may also be disclosed routinely to other users under the following circumstances:

1. Records may be disclosed to individuals under contract, cooperative agreement, or working agreement with HUD to assist the Department in fulfilling its statutory financial and asset management responsibilities.

2. Records may be disclosed during the course of an administrative proceeding, where HUD is a party, to an Administrative Law Judge and to the interested parties to the extent necessary for conducting the proceeding.

3. Records may be disclosed to the Department of Justice for litigation purposes associated with the representation of HUD or other Federal agency before the courts.

4. Records may be disclosed to the Department of Treasury who provides collection services for HUD.

5. Records may be provided to the national credit bureaus for credit reporting purposes.

6. Records may be disclosed to a confidential source to the extent necessary to assist the Office of the Inspector General or the Government Accounting Office in an investigation or audit.

7. Records may be disclosed to employers to effect wage garnishment.

8. Records may be disclosed in asset sale transactions to third party debt purchasers.

9. Records may be transmitted to CAIVRS (Credit Alert Interactive Verification Reporting System) which is a HUD-sponsored database that makes a federal debtor's delinquency and claim information available to federal lending and assistance agencies and private lenders who issue federally insured or guaranteed loans for the purpose of evaluating a loan applicant's creditworthiness.

Policies and Practices for Storing, Retrieving, Accessing, Retaining, and Disposing of Records in the System:

Storage:

Records are stored electronically in computer hardware devices and in hard copy in file cabinets or other secure storage units.

Retrievability:

Records may be retrieved by computer search via the name, address, or Social Security Number of the defaulted borrower and manually by combination of account number and name of primary defaulted borrower.

Safeguards:

Records are maintained in a secure computer network and in locked file cabinets in office space with controlled access.

Retention and Disposal:

Computer records for all active cases are available online in DCAMS. Computer records on inactive cases retired from the system are removed from the DCAMS online files and retained in batch files. The case remarks for these cases remain available online. Some reports can be generated based on the information stored in the batch files. Computer records for inactive cases that have been purged from the system are not retained in a batch file. The financial histories for these cases have been printed to microfiche. No other reports are available for purged cases. Records stored in paper files for inactive cases are retained in a Federal Records Center. Records are disposed of and archived in a manner that is consistent with the applicable official HUD Records Disposition Schedules and guidelines.

System Manager and Address:

Lester J. West, Director, HUD, Financial Operations Center, 52 Corporate Circle, Albany, New York 12203.

Notification and Record Access Procedures:

Individuals seeking to determine whether this system of records contains information about them, or those seeking access to such records, should address inquiries to the Project Manager of OHHLHC-CIEF, U.S. Department of Housing and Urban Development, 451 Seventh Street, SW., Suite P-7110, Washington, DC 20410. Written requests must include the full name, current address, and telephone number of the individual making the request, proof of identity, including a description of the requester's relationship to the information in question. The System Manager will accept inquiries from individuals seeking notification of whether the system contains records pertaining to them.

Contesting Record Procedures:

The procedures for requesting amendment or correction of records and appealing initial denials appear in 24 CFR part 16. If additional information or assistance is required, contact:

(i) In relation to contesting the content of records, the Departmental Privacy Act Officer at HUD, 451 Seventh Street, SW., Room 4156, Washington, DC 20410; and

(ii) In relation to appeals of initial denials, the Departmental Appeals Officer, Office of General Counsel, Department of Housing and Urban Development, 451 Seventh Street, SW., Washington, DC 20410.

Record Source Categories:

Information may be collected from a variety of sources, including HUD, other federal, state, and local agencies, public records, credit reports, and HUD-insured lenders and other program participants.

Exemptions from Certain Provisions of the Act:

None.

[FR Doc. E7-22077 Filed 11-9-07; 8:45 am]

BILLING CODE 4210-67-P